ENVIRONMENTAL PROTECTION AGENCY

40 CFR Part 300

[FRL-7549-4]

National Oil and Hazardous Substances Pollution Contingency Plan; National Priorities List

AGENCY: Environmental Protection Agency.

ACTION: Notice of intent for partial deletion of the Rocky Mountain Arsenal National Priorities List Site from the National Priorities List; extension of public comment periods.

SUMMARY: The Environmental Protection Agency (EPA) Region 8 announced its intent to delete the Selected Perimeter Area (SPA, 68 FR 44259) and the Surface Deletion Area (SDA, 68 FR 44265) of the Rocky Mountain Arsenal National Priorities List Site (RMA/NPL Site) On-Post Operable Unit (OU) from the National Priorities List (NPL) on July 28, 2003. Both 30-day public comment periods are scheduled to end on August 26, 2003. EPA has received a written request to extend these public comment periods. In response, EPA is extending both public comment periods for an additional 30 days concluding on September 25, 2003.

The NPL constitutes appendix B of 40 CFR part 300 which is the National Oil and Hazardous Substances Pollution Contingency Plan (NCP), which EPA promulgated pursuant to section 105 of the Comprehensive Environmental Response, Compensation, and Liability Act (CERCLA).

EPA bases its proposal to delete the SPA and SDA portions of the RMA/NPL Site on the determination by EPA and the State of Colorado, through the Colorado Department of Public Health and Environment (CDPHE), that all appropriate actions under CERCLA have been implemented to protect human health, welfare, and the environment and that no further response action by responsible parties is appropriate.

The partial deletions pertain only to the SPA and SDA of the On-Post OU of the RMA/NPL Site and do not include the Off-Post OU or the rest of the On-Post OU. The Off-Post OU and rest of the On-Post OU will remain on the NPL and response activities will continue at those OUs.

DATES: Comments concerning the proposed partial deletions may be submitted to EPA on or before September 25, 2003.

ADDRESSES: Comments may be mailed to: Catherine Roberts, Community Involvement Coordinator (8OC), U.S. EPA, Region 8, 999 18th Street, Suite 300, Denver, Colorado, 80202-2466, 1-800-227-8917 or (303) 312-6025.

Comprehensive information on the RMA/NPL Site, as well as information specific to both proposed partial deletions, is available through EPA's Region 8 Superfund Records Center in Denver, Colorado. Documents are available for viewing by appointment from 8 a.m. to 4 p.m., Monday through Friday excluding holidays by calling (303) 312-6473. The Administrative Record for the RMA/NPL Site and the Deletion Dockets for these partial deletions are maintained at the Joint Administrative Records Document Facility, Building 129, Room 2024, Commerce City, Colorado 80022-1748, (303) 289-0362. Documents are available for viewing from 12 p.m. to 4 p.m., Monday through Friday or by appointment.

FOR FURTHER INFORMATION CONTACT: Ms. Laura Williams, Remedial Project Manager (8EPR-F), U.S. EPA, Region 8, 999 18th Street, Suite 300, Denver, Colorado, 80202-2466, (303) 312-6660.

SUPPLEMENTARY INFORMATION:

Table of Contents

I. Introduction

II. NPL Deletion Criteria

III. Deletion Procedures

IV. Basis for Intended Partial Site Deletion

I. Introduction

The Environmental Protection Agency Region 8 announces a thirty (30) day extension of the public comment periods for the proposed deletion of the Selected Perimeter Area and Surface Deletion Area of the Rocky Mountain Arsenal National Priorities List (RMA/NPL) Site, Commerce City, Colorado, from the National Priorities List and requests comment on these proposed actions. The NPL constitutes appendix B of the National Oil and Hazardous Substances Pollution Contingency Plan, 40 CFR part 300, which EPA promulgated pursuant to section 105 of the Comprehensive Environmental Response, Compensation and Liability Act (CERCLA), 42 U.S.C. 9605. EPA identifies sites that appear to present a significant risk to public health or the environment and maintains the NPL as the list of those sites. Sites on the NPL may be the subject of remedial actions financed by the Hazardous Substance Superfund (Fund). The partial deletions from the RMA/NPL Site are proposed in accordance with 40 CFR 300.425(e) and Notice of Policy Change: Partial Deletion of Sites Listed on the National Priorities List (60 FR 55466 (November 1, 1995)). As described in 40 CFR 300.425(e)(3), portions of a site deleted from the NPL remain eligible for further remedial actions if warranted by future conditions.

EPA will accept comments concerning its intent for the SPA and SDA partial deletions from the RMA/NPL Site until September 25, 2003.

Section II of this action explains the criteria for deleting sites from the NPL. Section III discusses the procedures that EPA is using for these proposed partial deletions. Section IV explains how the SPA and SDA each meet the deletion criteria.

II. NPL Deletion Criteria

The NCP establishes the criteria that EPA uses to delete sites from the NPL. In accordance with 40 CFR 300.425(e), sites may be deleted from the NPL where no further response is appropriate to protect public health or the environment. In making such a determination pursuant to § 300.425(e), EPA will consider, in consultation with the State, whether any of the following criteria have been met:

Section 300.425(e)(1)(i). Responsible parties or other persons have implemented all appropriate response actions required; or

Section 300.425(e)(1)(ii). All appropriate Fund-financed response under CERCLA has been implemented, and no further response action by responsible parties is appropriate; or

Section 300.425(e)(1)(iii). The remedial investigation has shown that the release poses no significant threat to public health or the environment and, therefore, taking remedial measures is not appropriate.

A partial deletion of a site from the NPL does not affect or impede EPA's ability to conduct CERCLA response activities for portions not deleted from the NPL. In addition, deletion of a portion of a site from the NPL does not affect the liability of responsible parties or impede agency efforts to recover costs associated with response efforts. The U.S. Army and Shell Oil Company will be responsible for all future remedial actions required at the areas deleted if future site conditions warrant such actions.

III. Deletion Procedures

Upon determination that at least one of the criteria described in § 300.425(e) of the NCP has been met, EPA may formally begin deletion procedures. The following procedures were used for the proposed deletion of the SPA and SDA portions of the RMA/NPL Site:

(1) EPA has recommended the partial deletions and prepared the relevant documents.

(2) The State of Colorado, through the CDPHE, concurred with publication of the notices of intent for partial deletion.

(3) Concurrent with the national Notices of Intent for Partial Deletion, a local notice was published in a newspaper of record and distributed to appropriate federal, State, and local officials, and other interested parties. These notices announced a thirty (30) day public comment period for each deletion package, both ending August 26, 2003, based upon publication of the notices in the Federal Register and a local newspaper of record.

(4) Concurrent with this national Notice of the Public Comment Extension, a local notice has been published in a newspaper of record and has been distributed to appropriate federal, State, and local officials, and other interested parties. These notices announce a thirty (30) day extension of the public comment periods, which end on September 25, 2003.

(5) EPA has made all relevant documents available at the information repositories listed previously for public inspection and copying.

Upon completion of the thirty (30) calendar day extension of the public comment periods, EPA Region 8 will evaluate each significant comment and any significant new data received before issuing a final decision concerning the proposed partial deletions. EPA will prepare a responsiveness summary for both the SPA and SDA for each significant comment and any significant new data received during the public comment periods and will address concerns presented in such comments and data. The responsiveness summaries will be made available to the public at the EPA Region 8 office and the information repository listed above and will be included in the final deletion packages. Members of the public are encouraged to contact EPA Region 8 to obtain a copy of the responsiveness summaries. If, after review of all such comments and data, EPA determines that either of the partial deletions from the NPL is appropriate, EPA will publish a final notice of partial deletion in the Federal Register. Deletion of the SPA or the SDA from the RMA/NPL Site does not actually occur until a final notice of partial deletion is published in the Federal Register. A copy of each final partial deletion package will be placed at the EPA Region 8 office and the information repository listed above after the final documents have been published in the Federal Register.

IV. Basis for Intended Partial Site Deletion

This notice announces a thirty (30) day extension of the public comment periods for the proposed partial deletions from the RMA/NPL Site. EPA Region 8 announced its intent to delete the SPA and SDA portions of the RMA/NPL Site from the NPL on July 28, 2003. The original basis for deleting the SPA and SDA from the RMA/NPL Site has not changed. The Federal Register notice for the SPA (68 FR 44259) and the SDA (68 FR 44265) provide a thorough discussion of the bases for the intended partial deletions.

Dated: August 18, 2003.
Robert E. Roberts,
Regional Administrator, Region 8.

[FR Doc. 03-21781 Filed 8-25-03; 8:45 am]

BILLING CODE 6560-50-P